SECURITIES AND EXCHANGE COMMISSION

[OMB Control No. 3235-0468]

Submission for OMB Review; Comment Request; Reinstatement Without Change: Rule 10A-1

Upon Written Request, Copies Available From: Securities and Exchange Commission, Office of FOIA Services, 100 F Street NE, Washington, DC 20549-2736

Notice is hereby given that pursuant to the Paperwork Reduction Act of 1995 (44 U.S.C. 3501 et seq.) (“PRA”), the Securities and Exchange Commission (“Commission”) has submitted to the Office of Management and Budget (“OMB”) a request for approval of reinstatement without change of the previously approved collection of information provided for in Rule 10A-1 (17 CFR. 240.10A-1) (the “Rule”) under the Securities Exchange Act of 1934 (15 U.S.C. 78a et seq.).

Rule 10A-1 (17 CFR 240.10A-1) implements the reporting requirements in Section 10A of the Exchange Act (15 U.S.C. 78j-1) which was enacted by Congress on December 22, 1995 as part of the Private Securities Litigation Reform Act of 1995, Public Law 104-67, 109 Stat 737. Under section 10A and Rule 10A-1, reporting occurs only if a registrant's board of directors receives a report from its auditor that (1) there is an illegal act material to the registrant's financial statements, (2) senior management and the board have not taken timely and appropriate remedial action, and (3) the failure to take such action is reasonably expected to warrant the auditor's modification of the audit report or resignation from the audit engagement. The board of directors must notify the Commission within one business day of receiving such a report. If the board fails to provide that notice, then the auditor, within the next business day, must provide the Commission with a copy of the report that it gave to the board.

Likely respondents are those registrants filing audited financial statements under the Securities Exchange Act of 1934 (15 U.S.C. 78a, et seq.) and the Investment Company Act of 1940 (15 U.S.C. 80a-1, et seq.).

This information collection requirement was previously approved by OMB. Because the Commission receives fewer than ten reports each year, this requirement does not constitute a collection of information. Thus, it was not necessary to extend the collection requirement, and the Commission allowed the approval to expire on June 30, 2021. The Commission recognizes, however, that in the future it is possible that ten or more reports will be submitted within a twelve-month period. Accordingly, the Commission will request a reinstatement of OMB's approval.

It is estimated that Rule 10A-1 results in an aggregate additional reporting burden of 5 hours per year. The estimated average burden hours are solely for purposes of the Paperwork Reduction Act and are not derived from a comprehensive or even a representative survey or study of the costs of SEC rules or forms.

An agency may not conduct or sponsor, and a person is not required to respond to, a collection of information unless it displays a currently valid OMB Control Number.

Written comments are invited on: (a) whether this collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

The public may view and comment on this information collection request at: https://www.reginfo.gov/public/do/PRAViewICR?ref_nbr=202412-3235-024 or send an email comment to MBX.OMB.OIRA.SEC_desk_officer@omb.eop.gov within 30 days of the day after publication of this notice by April 7, 2025.

Dated: March 3, 2025.
Sherry R. Haywood,
Assistant Secretary.

[FR Doc. 2025-03651 Filed 3-6-25; 8:45 am]

BILLING CODE 8011-01-P